DEPARTMENT OF HOMELAND SECURITY

Coast Guard

33 CFR Part 117

[Docket No. USCG-2015-0271]

Drawbridge Operation Regulations; New River, Fort Lauderdale, FL

AGENCY: Coast Guard, DHS.

ACTION: Notice of temporary deviation from regulations; request for comments.

SUMMARY: The Coast Guard is issuing a temporary deviation from the operating schedule that governs the Florida East Coast Railway (FEC) Railroad Bridge across the New River, mile 2.5, at Fort Lauderdale, FL. This deviation will test a change to the drawbridge operation schedule to address the inability of the bridge owner, FEC, to operate the bridge under current regulations.

DATES: This deviation is effective from 6 a.m. on May 18, 2015 through 6 a.m. on October 16, 2015.

Comments and related material must be received by the Coast Guard on or before August 17, 2015. Requests for public meetings must be received by the Coast Guard on or before June 16, 2015.

ADDRESSES: You may submit comments identified by docket number USCG-2015-0271 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these four methods.

FOR FURTHER INFORMATION CONTACT: If you have questions on this test deviation, call or email Robert Glassman at telephone 305-415-6746, email Robert.s.glassman@uscg.mil. If you have questions on viewing or submitting material to the docket, call Cheryl Collins, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2015-0271), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number [USCG-2015-0271] in the “SEARCH” box and click “SEARCH.” Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2015-0271) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one on or before June 16, 2015, using one of the four methods specified under ADDRESSES. Please explain why one would be beneficial. If we determine that one would aid this rulemaking, we will hold one at a time and place announced by a later notice in the Federal Register.

B. Background Information

The bridge owner, FEC Railway, requested permission to operate the FEC Railroad Bridge across the New River with an automated system. The FEC Railroad Bridge in Fort Lauderdale, FL has a vertical clearance of 4 feet at mean high water in the closed position and horizontal clearance of 60 feet. Traffic on the waterway includes both commercial and recreational vessels.

Presently, in accordance with 33 CFR 117.5, the bridge is required to open on signal for the passage of vessels. The bridge is usually maintained in the open to navigation position and only closes for train traffic.

The bridge owner, FEC, determined that by installing an automated system, vessel transit will be more efficient. This automated system allows the railroad dispatcher to receive a signal that the bridge must close for approaching trains. The dispatcher will then be advised when trains clear the bridge so it can reopen.

Any vessel requesting a bridge opening must contact the bridge tender via telephone or radiotelephone (marine radio) on VHF-FM channel 9 or 16 to coordinate safe passage through the bridge. The tender must provide information to include, but not limited to authorization for the vessel to continue its transit when the bridge is open to navigation, or the tender must advise that the vessel will have to wait because a train is approaching. If a vessel is required to wait, the bridge tender must indicate the amount of time the vessel will have to wait until the train is clear of the bridge. The FEC Dispatch number and bridge tender phone number will be posted at the bridge so they can be seen by vessels approaching from either direction. The bridge tender's number is 305-889-5572 and the FEC Dispatch number is 800-342-1131.

This deviation seeks comments on FEC's operating schedule and tests an automatic operating system as the method for operating the bridge to determine whether a permanent change to operations can be approved. The deviation period will run from 6 a.m. on May 18, 2015 through 6 a.m. on October 16, 2015.

During the test deviation period, the draw of the FEC Railroad Bridge across the New River, mile 2.5, at Fort Lauderdale, FL, will operate as follows:

(a) The bridge is constantly tended.

(b) The bridge tender will utilize a VHF-FM radio to communicate on channels 9 and 16 and may be contacted by telephone at 305-889-5572.

(c) Signage will be posted displaying VHF radio contact information and the bridge tender and dispatch telephone number. A countdown clock for bridge closure shall be posted at the bridge site and visible for maritime traffic.

(d) A bridge log will be maintained including, at a minimum, bridge opening and closing times.

(e) When the draw is in the fully open position, green lights will be displayed to indicate that vessels may pass.

(f) When a train approaches, the lights go to flashing red and a horn starts four blasts, pauses, and then continues four blasts then the draw lowers and locks.

(g) After the train has cleared the bridge, the draw opens and the lights return to green.

(h) The bridge shall not be closed more than 60 minutes combined for any 120 minute time period beginning at 12:01 a.m.

In accordance with 33 CFR 117.35(e), the drawbridge must return to its regular operating schedule immediately at the end of the effective period of this temporary deviation. This deviation from the operating regulations is authorized under 33 CFR 117.35.

Dated: April 22, 2015.
Barry Dragon,
Bridge Administrator, U.S. Coast Guard, Seventh Coast Guard District.

[FR Doc. 2015-11931 Filed 5-15-15; 8:45 am]

BILLING CODE 9110-04-P